DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice revises the list of members of the Department of Veterans Affairs (VA) Performance Review Boards which was published in the Federal Register on October 12, 2001 (66 FR 52187).

EFFECTIVE DATE: September 24, 2002.

FOR FURTHER INFORMATION CONTACT: Charlotte Moment, Office of Human Resources Management (052B), Department of Veterans Affairs, 810 Vermont Avenue, NW., Washington, DC 20420, (202) 273-8165.

VA Performance Review Board (PRB)

Jacob Lozada, Ph.D., Assistant Secretary for Human Resources and Administration (Chairperson)

Nora E. Egan, Chief of Staff

Stanley R. Sinclair, Deputy Under Secretary for Benefits, Veterans Benefits Administration

John H. Thompson, Deputy General Counsel

Laura Miller, Assistant Deputy Under Secretary for Health

D. Mark Catlett, Principal Deputy Assistant Secretary for Management

Lucretia M. McClenney, Special Assistant

Michael G. Sullivan, Deputy Inspector General

S. Eric Benson, Acting Under Secretary for Memorial Affairs

Robert Schultz, Alternate, Principal Deputy Assistant Secretary for Human Resources and Administration (Alternate)

Eligah Clark, Chairman, Board of Veteran's Appeals

Michael Walcoff, Associate Deputy Under Secretary for Operations, Veterans Benefits Administration (Alternate)

Nevin Weaver, Chief of Staff, Veteran's Health Administration (Alternate)

Vincent L. Barile, Deputy Under Secretary for Management, National Cemetery System (Alternate)

Veterans Benefits Administration PRB

Stanley R. Sinclair, Deputy Under Secretary for Benefits, (Chairperson)

Robert J. Epley, Associate Deputy Under Secretary for Policy & Program Management

James Bohmbach, Chief Financial Officer

Michael Walcoff, Associate Deputy Under Secretary for Field Operations

Geraldine Johnson, Associate Deputy Under Secretary for Management

Thomas Jensen, VARO Director, Nashville, TN

Veterans Health Administration PRB

Jonathan B. Perlin, M.D., Ph.D., M.S.H.A., Acting Deputy Under Secretary for Health (Chairperson)

Laura J. Miller, Assistant Deputy Under Secretary for Health (Vice-Chairperson)

Robert A. Perreault, Director, Business Office

Alfonso R. Batres, Ph.D., Chief Readjustment Counseling Officer

Terrence S. Batliner, DDS, Network Director, VISN 19

Linda W. Belton, Network Director, VISN 11

Lawrence A. Biro, Network Director, VISN 4

Leslie M. Burger, M.D., Acting Network Director, VISN 20

Jeanette A. Chirico-Post, M.D., Network Director, VISN 1

Gary A. Christopherson, Chief Information Officer

Kenneth J. Clark, Network Director, VISN 22

Joan E. Cummings, M.D., Network Director, VISN 12

John Dandridge, Jr., Network Director, VISN 9

Larry R. Deal, Network Director, VISN 7

James B. Donahoe, Director, Veterans Canteen Service

James J. Farsetta, Network Director, VISN 3

John R. Feussner, M.D., Chief Research and Development Officer

Lawrence H. Flesh, M.D., Acting Network Director, VISN 2

Elwood J. Headley, M.D., Network Director, VISN 8

Daniel F. Hoffmann, Network Director, VISN 6

James H. Holley, Chief Communications Officer

Thomas V. Holohan, M.D., Chief Patient Care Services Officer

Thomas J. Hogan, Director, Management Support Office (Ex Officio)

Smith Jenkins, Jr., Network Director, VISN 18

Robert E. Lynch, M.D., Network Director, VISN 16

Susan H. Mather, M.D., M.P.H., Chief Public Health and Environmental Hazards Officer

Frances M. Murphy, M.D., M.P.H., Acting Deputy Under Secretary for Health Policy Coordination

James J. Nocks, M.D., Network Director, VISN 5

Ronald B. Norby, Acting Network Director, VISN 15

Jimmy A. Norris, Chief Financial Officer

Gregg Pane, M.D., M.P.A., Chief Policy and Planning Officer

Clyde L. Parkis, Network Director, VISN 10

Robert A. Petzel, M.D., Interim Network Director, VISN 23

Stephanie H. Pincus, M.D., M.B.A., Chief Academic Affiliations Officer

Cathy Rick, R.N., M.S.N., Chief Nursing Officer

Thomas J. Stranova, Network Director, VISN 17

Nevin Weaver, VHA Chief of Staff

Robert L. Wiebe, M.D., Network Director, VISN 21

Charles V. Yarbrough, Chief Facilities Management Officer

Office of Inspector General PRB

David A. Brinkman, Director, Audit Followup Directorate, Department of Defense (Chairperson)

Nancy Hendricks, Assistant Inspector General for Audit, Federal Emergency Management Agency

George Grob, Deputy Inspector General for Evaluation and Inspections, Department of Health and Human Services

Dated: September 13, 2002.
Anthony J. Principi,
Secretary of Veterans Affairs.

[FR Doc. 02-24203 Filed 9-23-02; 8:45 am]

BILLING CODE 8320-01-P